DEPARTMENT OF HOUSING AND URBAN DEVELOPMENT

[Docket No. FR-5828-N-49]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: AGRICULTURE: Ms. Debra Kerr, Department of Agriculture, Reporters Building, 300 7th Street SW., Room 300, Washington, DC 20024, (202) 720-8873; COAST GUARD: Commandant, United States Coast Guard, Attn: Aretha Swann, 2703 Martin Luther King Jr. Avenue SE., Stop 7741, Washington, DC 20593-7714; (202) 475-5628; GSA: Mr. Flavio Peres, General Services Administration, Office of Real Property Utilization and Disposal, 1800 F Street NW., Room 7040 Washington, DC 20405, (202) 501-0084; NASA: Mr. Frank T. Bellinger, Facilities Engineering Division, National Aeronautics & Space Administration, Code JX, Washington, DC 20546, (202) 358-1124; NAVY: Mr. Steve Matteo, Department of the Navy, Asset Management; Division, Naval Facilities Engineering Command, Washington Navy Yard, 1330 Patterson Ave. SW., Suite 1000, Washington, DC 20374; (202) 685-9426; (These are not toll-free numbers).

Dated: November 19, 2015.
Brian P. Fitzmaurice,
Director, Division of Community Assistance, Office of Special Needs Assistance Programs.

TITLE V, FEDERAL SURPLUS PROPERTY PROGRAM FEDERAL REGISTER REPORT FOR 12/04/2015

Suitable/Available Properties

Building

North Carolina

Johnson J. Hayes Federal Build

207 West Main Street

Wilkesboro NC 28697

Landholding Agency: GSA

Property Number: 54201540015

Status: Excess

GSA Number: NC-0735-AB

Directions: Take US Highway 421 North toward Wilkesboro/Boone; Take exit 286A; Turn left onto NC-16/NC-18/S Cherry St.; Continue to follow NC-18/S Cherry St.; Turn right onto NC-18/NC-268/W Main St.

Basement—6,870 usable square feet (usf)

First Floor—15,755 usf

Second Floor—16,118 usf

Total—38,743 usf

Comments: 47+ yrs. old; 38,743 Gross Square Feet; office & courtroom; good condition; lease becomes month-to-month 02/2016; asbestos; contact GSA for more information.

Washington

2 Buildings

Liscumm Road

Quinault WA 98575

Landholding Agency: Agriculture

Property Number: 15201540002

Status: Excess

Directions: Residence—Norwood 1048 (1140.005071); Residence—Norwood 1047 (1139.005071) 07665 00 both bldgs. 1503 sq. ft.

Comments: off-site removal only; 46+ yrs. old; 4+ & 36+ mos. vacant; residential; asbestos; may be difficult to move because of type & size; contact Agriculture for more information.

Unsuitable Properties

Building

California

8 Buildings

Marine Corps Base Camp Pendleton

MCB Camp Pendleton CA 92055

Landholding Agency: Navy

Property Number: 77201540007

Status: Excess

Directions: Buildings 1503, 2514, 13145, 22168, 24172, 53424, 53425, 53426

Comments: public access denied and no alternative method to gain access without compromising national security.

Reasons: Secured Area

12 Buildings

Marine Corps Base Camp Pendleton

MCB Camp Pendleton CA 92055

Landholding Agency: Navy

Property Number: 77201540008

Status: Excess

Directions: Buildings 24121, 24122, 24123, 24124, 24125, 24126, 24131, 24132, 24133, 24134, 24135, 24136

Comments: public access denied and no alternative method to gain access without compromising national security.

Reasons: Secured Area

4 Buildings

MCB Camp Pendleton

MCB Camp Pendleton CA 92055

Landholding Agency: Navy

Property Number: 77201540010

Status: Excess

Directions: Building 31849; 31861; 31871; 31880

Comments: public access denied and no alternative method to gain access without compromising national security.

Reasons: Secured Area

Mississippi

Building: 9100 Warehouse

Stennis Space Center

Hancock County MS 39529

Landholding Agency: NASA

Property Number: 71201540003

Status: Unutilized

Comments: public access denied and no alternative method to gain access without compromising national security.

Reasons: Secured Area

North Carolina

Metal Shop #57 (24046)

1664 Weeksville Road

Elizabeth City NC 27909

Landholding Agency: Coast Guard

Property Number: 88201540003

Status: Excess

Comments: property located within an airport runway clear zone or military airfield; Public access denied and no alternative method to gain access without compromising national security.

Reasons: Secured Area; Within airport runway clear zone

[FR Doc. 2015-29952 Filed 12-3-15; 8:45 am]

BILLING CODE 4210-67-P